DEPARTMENT OF DEFENSE

Department of the Air Force

Notice of Intent To Prepare an Environmental Impact Statement for T-7a Recapitalization at Columbus Air Force Base, Mississippi

AGENCY: Department of the Air Force, Department of Defense.

ACTION: Notice of intent.

SUMMARY: The Department of the Air Force (DAF) is issuing this Notice of Intent (NOI) to prepare an Environmental Impact Statement (EIS) to assess the potential social, economic, and environmental impacts associated with T-7A Recapitalization at Columbus Air Force Base (AFB), Mississippi. The EIS will analyze the potential impacts from introduction of T-7A aircraft and flight operations at Columbus AFB and associated airspace; introduction of nighttime (between 10 p.m. and 7 a.m.) T-7A flight operations; changes to the number of personnel and dependents in the Columbus AFB region; and construction and upgrade of support and maintenance facilities.

DATES: A public scoping period of 30 days will take place starting from the date of this NOI publication in the Federal Register. Comments will be accepted at any time during the environmental impact analysis process; however, to ensure DAF has sufficient time to consider public scoping comments during preparation of the Draft EIS, please submit comments within the 30-day scoping period. The Draft EIS is anticipated in late 2022. The Final EIS and a decision on which alternative to implement is expected in mid-2023.

ADDRESSES: For EIS inquiries or requests for printed or digital copies of scoping materials please contact Mr. Nolan Swick by phone: (210) 925-3392. The project website (https://columbus.t-7anepadocuments.com/) provides additional information on the EIS and can be used to submit scoping comments. Scoping comments may also be submitted via email to nolan.swick@us.af.mil or via postal mail to Mr. Nolan Swick, AFCEC/CZN; Attn: Columbus AFB T-7A Recapitalization EIS; Headquarters AETC Public Affairs; 100 H East Street, Suite 4; Randolph AFB, TX 78150. Please submit inquiries or requests for printed or digital copies of the scoping materials via the email or postal address above. For printed material requests, the standard U.S. Postal Service shipping timeline will apply. Please consider the environment before requesting printed material.

SUPPLEMENTARY INFORMATION: The DAF intends to prepare an EIS that will evaluate the potential impacts from its proposal to recapitalize the T-38C Talon flight training program at Columbus AFB with T-7A Red Hawk aircraft. The proposal supports the Secretary of the Air Force's strategic basing decisions to recapitalize existing T-38C pilot training installations, and Columbus AFB would be the second installation to be environmentally analyzed for possible recapitalization. The purpose of this proposal is to continue the T-7A recapitalization program by recapitalizing Columbus AFB to prepare pilots to operate the more technologically advanced T-7A aircraft. Recapitalization is needed because the current training practices with the older T-38C aircraft fail to prepare pilots for the technological advancements of fourth and fifth generation aircraft.

Recapitalization entails introduction of T-7A aircraft and flight operations at Columbus AFB to replace all T-38C aircraft assigned to the installation; introduction of nighttime (between 10 p.m. and 7 a.m.) flight operations; changes to the number of personnel and dependents in the Columbus AFB region; and construction and upgrade of support and maintenance facilities. DAF is considering the Proposed Action, Alternative 1, Alternative 2, and the No Action Alternative. For the Proposed Action, Columbus AFB would receive 61 T-7A aircraft and perform sufficient operations for sustaining pilot training while simultaneously phasing out the T-38C aircraft and phasing in the T-7A aircraft. Alternative 1 also would result in 61 T-7A aircraft being delivered to Columbus AFB; however, T-7A operations would be performed at an intensity approximately 25 percent greater than the Proposed Action to cover a potential scenario in which DAF requires a surge or increase in pilot training operations above current plan. For Alternative 2, Columbus AFB would receive 77 T-7A aircraft to cover a potential scenario in which another military installation is unable to accept delivery of all their T-7A aircraft and some of those aircraft need to be reassigned to Columbus AFB. T-7A operations for Alternative 2 would be performed at an intensity identical to Alternative 1. The No Action Alternative would not implement T-7A recapitalization at Columbus AFB.

DAF anticipates potential for the following notable environmental impacts from the Proposed Action and action alternatives: 1. Increased air emissions, particularly nitrogen oxides. 2. Increased noise from aircraft operations because the T-7A is inherently louder than the T-38C and the addition of nighttime operations may be bothersome to some residents. Increased noise could have a disproportionate impact on certain populations and impact off-installation land use compatibility. 3. Increased potential for bird/wildlife aircraft strike hazards. 4. Construction may have a minor impact on downstream water quality. The EIS will model air emissions, noise levels, and the number of sleep and school disturbance events and compare to current conditions. DAF will also consult with appropriate resource agencies and Native American tribes to determine the potential for significant impacts. Consultation will be incorporated into the preparation of the EIS and will include, but not be limited to, consultation under Section 7 of the Endangered Species Act and consultation under Section 106 of the National Historic Preservation Act. Additional analysis will be provided in the Draft EIS.

Scoping and Agency Coordination: To effectively define the full range of issues to be evaluated in the EIS, DAF is soliciting comments from interested local, state, and federal elected officials and agencies, Tribes, as well as interested members of the public and others. Comments are requested on potential alternatives and impacts, and identification of any relevant information, studies, or analyses of any kind concerning impacts affecting the quality of the human environment. Concurrent with the publication of this NOI, public scoping notices will be announced locally. In accordance with DAF guidance, in-person public scoping meetings will not be held. Public scoping is being accomplished remotely, in accordance with the 2020 version of 40 Code of Federal Regulations part 1506.6, via the project website at https://columbus.t-7anepadocuments.com/. The website provides posters, a presentation, an informational brochure, other meeting materials, and the capability for the public to provide public scoping comments. Scoping materials are also available in print at the Columbus-Lowndes Public Library (314 7th Street North, Columbus, Mississippi).

Adriane Paris,
Air Force Federal Register Liaison Officer.

[FR Doc. 2022-06575 Filed 3-28-22; 8:45 am]

BILLING CODE 5001-10-P